DEPARTMENT OF HEALTH AND HUMAN SERVICES

Food and Drug Administration

[Docket No. FDA-2009-E-0084]

Determination of Regulatory Review Period for Purposes of Patent Extension; PRISTIQ

Correction

In notice document 2010-21586 beginning on page 53314 in the issue of Tuesday, August 31, 2010, make the following correction:

On page 53315, in the second column, in the first full paragraph, in the twelfth through fourteenth lines, “[insert date 180 days after date of publication in the Federal Register]” should read “February 28, 2011”.

[FR Doc. C1-2010-21586 Filed 9-1-10; 8:45 am]

BILLING CODE 1505-01-D